DEPARTMENT OF COMMERCE

International Trade Administration

[A-580-839]

Notice of Final Results of Changed Circumstances Antidumping Duty Review: Certain Polyester Staple Fiber from the Republic of Korea

AGENCY: Import Administration, International Trade Administration, Department of commerce.

SUMMARY: The Department of Commerce (“Department”) has determined, pursuant to section 751(b) of the Tariff Act of 1930, as amended (“the Act”), that Woongjin Chemical Co. Ltd. (“Woongjin”) is the successor-in-interest to Saehan Industries Inc. (“Saehan”). As a result, Woongjin will be accorded the same treatment previously accorded to Saehan with regard to the antidumping duty order on polyester staple fiber (“PSF”) from the Republic of Korea (“Korea”) as of the date of publication of this notice in the Federal Register.

EFFECTIVE DATE: August 20, 2008.

FOR FURTHER INFORMATION CONTACT: Devta Ohri, AD/CVD Operations, Office 1, Import Administration, International Trade Administration, U.S. Department of Commerce, 14th Street and Constitution Avenue, NW, Washington DC 20230; telephone (202) 482-3853.

SUPPLEMENTARY INFORMATION:

Background

On May 25, 2000, the Department of Commerce issued an antidumping duty order on certain PSF from Korea. See Notice of Amended Final Determination of Sales at Less Than Fair Value and Antidumping Duty Order: Certain Polyester Staple Fiber from Republic of Korea, 65 FR 33807 (May 25, 2000). On April 23, 2008, Woongjin requested that the Department initiate a changed circumstances review of the antidumping duty order on PSF from Korea to determine that, for purposes of the antidumping law, Woongjin is the successor-in-interest to Saehan. On June 16, 2008, the Department initiated this review and made its preliminary finding that Woongjin is the successor-in-interest to Saehan, and should be treated as such for antidumping duty cash deposit purposes. See Notice of Initiation and Preliminary Results of Changed Circumstances Antidumping Duty Review: Certain Polyester Staple Fiber From the Republic of Korea, 73 FR 33989 (June 16, 2008). We invited parties to comment on the preliminary results. We received no comments or requests for a hearing.

Scope of the Review

For the purposes of this order, the product covered is PSF. PSF is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) currently classifiable in the Harmonized Tariff Schedule of the United States (“HTSUS”) at subheading 5503.20.00.25 is specifically excluded from this order. Also specifically excluded from this order are polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is currently classifiable in the HTSUS at subheadings 5503.20.00.45 and 5503.20.00.65. Although the HTSUS subheadings are provided for convenience and customs purposes, the written description of the merchandise under the order is dispositive.

Final Results of Changed Circumstances Review

For the reasons stated in the preliminary results, and because the Department did not receive any comments following the preliminary results of this review, the Department continues to find that Woongjin is the successor-in-interest to Saehan for antidumping duty cash deposit purposes.

Instructions to U.S. Customs and Border Protection

The Department will instruct CBP to suspend liquidation of all shipments of the subject merchandise produced and exported by Woongjin entered, or withdrawn from warehouse, for consumption on or after the publication date of this notice at 2.13 percent (i.e., Saehan's cash deposit rate). This deposit rate shall remain in effect until publication of the final results of the next administrative review in which Woongjin participates.

This notice also serves as a reminder to parties subject to administrative protective orders (“APO”) of their responsibility concerning the disposition of proprietary information disclosed under APO in accordance with 19 CFR 351.306. Timely written notification of the return/destruction of APO materials or conversion to judicial protective order is hereby requested. Failure to comply with the regulations and terms of an APO is a sanctionable violation.

This notice in accordance with sections 751(b) and 777(i)(1) of the Act, and section 351.221(c)(3)(i) of the Department's regulations.

Dated: August 12, 2008.
David M. Spooner,
Assistant Secretary for Import Administration.

[FR Doc. E8-19318 Filed 8-19-08; 8:45 am]

BILLING CODE 3510-DS-S